DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession of the New York University College of Dentistry, New York, NY. The human remains were removed from Bronx County, NY.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by New York University College of Dentistry professional staff in consultation with representatives of the Delaware Nation of Oklahoma; Delaware Tribe (part of the Cherokee Nation, Oklahoma); and Stockbridge Munsee Community, Wisconsin.

In 1911, human remains representing a minimum of one individual were removed from a grave at Broadway and Isham Streets, Inwood, New York, NY, by Reginald P. Bolton. In 1917, the human remains were accessioned by the Department of Physical Anthropology at the Museum of the American Indian, Heye Foundation. In 1956, the human remains were transferred to Dr. Theodore Kazamiroff, New York University College of Dentistry. No known individual was identified. No associated funerary objects are present.

Museum of the American Indian records identify the locality of origin of the human remains as “Aboriginal burial, Broadway and Isham Streets, New York City.” This location is in present-day Inwood, on the island of Manhattan, New York City, Bronx County. The cranial morphology of the human remains is consistent with an individual of Native American ancestry. Objects found at the Broadway and Isham Street location, but not in the museum's collection, suggest that the site dates to the late Late Woodland, Protohistoric or early Historic Periods, A.D. 1400-1650. The Inwood area is documented historically, archeologically and by tribal traditions as the territory of the Munsee Delaware-speaking people since at least the Late Woodland period. Manhattan was largely vacated by the Munsee during the late 17th and early 18th centuries, and the Munsee of Manhattan joined other Munsee communities to their north and west. Some Munsee people became part of the Stockbridge community that eventually settled in Wisconsin. Today, their descendants are members of the Stockbridge Munsee Community, Wisconsin. Other Munsee were integrated into Unami Delaware-speaking groups who moved through the Midwest and/or Texas before settling on reservation land in Oklahoma. Today, these groups are known as the Delaware Nation of Oklahoma and the Delaware Tribe of the Cherokee Nation, Oklahoma. Consultation evidence supports the identification of the human remains from the Broadway and Isham Streets site as Munsee and their cultural affiliation with the Delaware Nation of Oklahoma; Delaware Tribe of the Cherokee Nation, Oklahoma; and Stockbridge Munsee Community, Wisconsin.

Officials of New York University College of Dentistry have determined that, pursuant to 25 U.S.C. 3001 (9-10), the human remains described above represent the physical remains of one individual of Native American ancestry. Officials of New York University College of Dentistry also have determined that, pursuant to 25 U.S.C. 3001 (2), there is a relationship of shared group identity that can be reasonably traced between the Native American human remains and the Delaware Nation of Oklahoma; Delaware Tribe of the Cherokee Nation, Oklahoma; and Stockbridge Munsee Community, Wisconsin.

Representatives of any other Indian tribe that believes itself to be culturally affiliated with the human remains should contact Dr. Louis Terracio, New York University College of Dentistry, 345 East 24th St., New York, NY 10010, telephone (212) 998-9917, before September 21, 2009. Repatriation of the human remains to the Delaware Nation of Oklahoma; Delaware Tribe of the Cherokee Nation, Oklahoma; and Stockbridge Munsee Community, Wisconsin, may proceed after that date if no additional claimants come forward.

The New York University College of Dentistry is responsible for notifying the Delaware Nation of Oklahoma; Delaware Tribe of the Cherokee Nation, Oklahoma; and Stockbridge Munsee Community, Wisconsin that this notice has been published.

Dated: July 24, 2009.
Sherry Hutt,
Manager, National NAGPRA Program.

[FR Doc. E9-19975 Filed 8-19-09; 8:45 am]

BILLING CODE 4312-50-S